DEPARTMENT OF STATE

[Public Notice 6978]

Culturally Significant Objects Imported for Exhibition Determinations: “Birth of Impressionism: Masterpieces From the Musee d'Orsay”

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236 of October 19, 1999, as amended, and Delegation of Authority No. 257 of April 15, 2003 [68 FR 19875], I hereby determine that the objects to be included in the exhibition “Birth of Impressionism: Masterpieces from the Musee d'Orsay,” imported from abroad for temporary exhibition within the United States, are of cultural significance. The objects are imported pursuant to a loan agreement with the foreign owner or custodian. I also determine that the exhibition or display of the exhibit objects at the Fine Arts Museums of San Francisco, San Francisco, CA, from on or about May 22, 2010, until on or about September 6, 2010; Frist Center for the Visual Arts, Nashville, TN, from on or about October 15, 2010, until January 23, 2011, and at possible additional exhibitions or venues yet to be determined, is in the national interest. I have ordered that Public Notice of these Determinations be published in the Federal Register.

FOR FURTHER INFORMATION CONTACT: For further information, including a list of the exhibit objects, contact Julie Simpson, Attorney-Adviser, Office of the Legal Adviser, U.S. Department of State (telephone: 202-632-6467). The mailing address is U.S. Department of State, SA-5, L/PD, Fifth Floor (Suite 5H03), Washington, DC 20522-0505.

Dated: April 19, 2010.
Judith A. McHale,
Under Secretary for Public Diplomacy and Public Affairs, Department of State.

[FR Doc. 2010-9469 Filed 4-22-10; 8:45 am]

BILLING CODE 4710-05-P